DEPARTMENT OF VETERANS AFFAIRS

Chiropractic Advisory Committee; Notice of Meeting

The Department of Veterans Affairs (VA) gives notice under Public Law 92-463 (Federal Advisory Committee Act) that the Chiropractic Advisory Committee will meet Tuesday, March 30, 2004, from 8:15 a.m. until 5 p.m. and Wednesday, March 31, 2004, from 8 a.m. until 4 p.m., in Room 819, at 811 Vermont Avenue NW., Washington, DC 20420. The meeting is open to the public.

The purpose of the Committee is to provide direct assistance and advice to the Secretary of Veterans Affairs in the development and implementation of the chiropractic health program. Matters on which the Committee shall assist and advise the Secretary include protocols govening referrals to chiropractors and direct access to chiropractic care, scope of practice of chiropractic practitioners, definitions of services to be provided and such other matters as the Secretary determines to be appropriate.

On March 30, the Committee will receive an update on the status of the recommendations to the Secretary; an update on the chiropractic occupational study and qualification standard; a briefing on the VHA performance measurement process; and continue discussion of educational recommendations. On March 31, the Committee will complete development of educational recommendations, if additional time is needed, and begin discussion of quality/program evaluation.

Any member of the public wishing to attend the meeting is requested to contact Ms. Sara McVicker, RN, MN, Committee Manager, at (202) 273-8558, not later than 5 p.m. Eastern time on Wednesday, March 23, 2004, in order to facilitate entry to the building. Oral comments from the public will not be accepted at the meeting. It is preferred that any comments be transmitted electronically to sara.mcvicker@mail.va.gov or mailed to: Chiropractic Advisory Committee, Medical Surgical Services SHG (111), U.S. Department of Veterans Affairs, 810 Vermont Avenue NW., Washington, DC 20420. Items mailed via United States Postal Service require 7-10 days for delivery due to delays resulting from security measures.

Dated: March 2, 204.
By Direction of the Secretary.
E. Philip Riggin,
Committee Management Officer.

[FR Doc. 04-5623 Filed 3-11-04; 8:45 am]

BILLING CODE 8320-01-M